ELECTION ASSISTANCE COMMISSION

Sunshine Act Notice

AGENCY: United States Election Assistance Commission (EAC).

* * * * *

ACTION: Notice of EAC Standards Board Virtual Public Meeting.

Date and Time: Monday, June 18, 2007, 7 a.m. EDT through Wednesday, June 20, 5 p.m. EDT.

Place: EAC Standards Board Virtual Meeting Room at www.eac.gov. Once at the main page of EAC's Web site, viewers should click the link to the Standards Board Virtual Meeting Room. The virtual meeting room will open on Monday, June 18, 2007, at 7 a.m. EDT and will close on Wednesday, June 20, at 5 p.m. EDT. The site will be available 24 hours per day during that 3-day period.

Purpose: The EAC Standards Board will consider a draft letter to be sent to Members of the U.S. Senate and House of Representatives concerning The Ballot Integrity Act of 2007 and H.R. 811 and a motion directing the Executive Board to send the letter. The EAC Standards Board Virtual Meeting Room was established to enable the Standards Board to conduct business when it is not feasible for an in-person board meeting. The Standards Board will discuss the draft letter by posting written comments and questions on the Virtual Meeting Room site on Monday, June 18 and Tuesday, June 19, and will vote on the motion by posting Yea or Nay votes on the Virtual Meeting Room site on Wednesday, June 20, 2007.

This activity is open to the public. The public may view the proceedings of this virtual meeting by visiting the EAC Standards Board virtual meeting room at www.eac.gov at any time between Monday, June 18, 2007, 7 a.m. EDT and Wednesday, June 20, 2007, 5 p.m. EDT. The public may file written statements to the EAC Standards Board at standardsboard@eac.gov. Data on EAC's Web site is accessible to visitors with disabilities and meets the requirements of section 508 of the Rehabilitation Act.

Person to Contact for Information: Bryan Whitener, Telephone: (202) 566-3100.

* * * * *

Donetta L. Davidson,
Chair, U.S. Election Assistance Commission.

[FR Doc. 07-2726 Filed 5-29-07; 3:34 pm]

BILLING CODE 6820-KF-M